DEPARTMENT OF THE INTERIOR

National Park Service

[NPS-WASO-NRNHL-16534; PPWOCRADI0, PCU00RP14.R50000]

National Register of Historic Places; Notification of Pending Nominations and Related Actions

Nominations for the following properties being considered for listing or related actions in the National Register were received by the National Park Service before August 16, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by September 23, 2014. Before including your address, phone number, email address, or other personal identifying information in your comment, you should be aware that your entire comment—including your personal identifying information—may be made publicly available at any time. While you can ask us in your comment to withhold your personal identifying information from public review, we cannot guarantee that we will be able to do so.

Dated: August 25, 2014.
J. Paul Loether,
Chief, National Register of Historic Places/National Historic Landmarks Program.

ARKANSAS

Baxter County

Hutcheson, Sid, House, 13912 AR 5, S., Norfork, 14000789

Jefferson County

Carnahan House, 1200 S. Laurel St., Pine Bluff, 14000790

Redfield School Historic District, (New Deal Recovery Efforts in Arkansas MPS) 101 School St., Redfield, 14000791

Johnson County

U.S. 64 Horsehead Creek Bridge, (Historic Bridges of Arkansas MPS) US 64 over Horsehead Cr., Hartman, 14000792

Pulaski County

Duffy House, (Pre-Depression Houses and Outbuildings of Edgemont in Park Hill MPS) 124 E. A St., North Little Rock, 14000793

Heagler House, 904 Skyline Dr., North Little Rock, 14000794

Saline County

Buffington, Dr. T.E., House, 312 W. South St., Benton, 14000795

Sebastian County

Adams, Harold, Office Building, 2101 S. H St., Fort Smith, 14000796

CALIFORNIA

Los Angeles County

White, Michael, Adobe, 2701 Huntington Dr., San Marino, 14000797

DISTRICT OF COLUMBIA

District of Columbia

District of Columbia Pound, 820 S. Capitol St. SW. & 9 I St. SW., Washington, 14000798

Standard Material Company—Gyro Motor Company, 770-774 Girard St. NW., Washington, 14000799

INDIANA

Allen County

North Anthony Boulevard Historic District, (Park and Boulevard System of Fort Wayne, Indiana MPS) Roughly N. Anthony Blvd. between Vance & Lake Aves., Fort Wayne, 14000800

Franklin County

Cedar Grove Bridge, Old IN 1 over Whitewater R., Cedar Grove, 14000801

Hancock County

Black, Rufus and Amanda, House, 222 S. 200 West, Philadelphia, 14000802

Hendricks County

Parsons, A.A., Farmstead, 1739 Cty. Rd. 625 E., Avon, 14000803

Jasper County

Parker, Oren F. and Adelia, House, 102 S. Park Ave., Rensselaer, 14000804

La Porte County

Haskell and Barker Historic District, Washington & Wabash between 4th & Homer Sts., Michigan City, 14000806

Indiana and Michigan Avenues Historic District, Roughly Indiana & Michigan between Maple & Kingsbury Aves., La Porte, 14000807

Lake County

Combs Addition Historic District, 400 & 500 blks. of Rutledge, Ellsworth & 500 blk. of Marshall Sts. between 4th & 6th Aves., Gary, 14000805

Newton County

Seller's Standard Station and Pullman Diner, 101 & 103 N. Polk St., Morocco, 14000808

Wabash County

LaFontaine Historic District, Roughly Kendall & Branson between Walnut & Gruell Sts., LaFontaine, 14000809

NEW JERSEY

Essex County

Maplewood Municipal Building, 574 Valley St., Maplewood, 14000810

OHIO

Summit County

Akron Soap Company, 237-243 Furnace St., Akron, 14000811

OREGON

Washington County

Aloha Farmhouse, 1080 SW. 197th Ave., Beaverton, 14000812

PENNSYLVANIA

Allegheny County

First Methodist Episcopal Church of McKeesport, 1406 Cornell St., McKeesport, 14000814

Mt. Lebanon Historic District, Roughly bounded by Gilkeson, Washington, Scott & Pine Tree Rds., Mt. Lebanon, Castle Shannon & Cedar Blvds., Mt. Lebanon, 14000813

Mifflin County

1922 Model T Ford, 152 William Penn Hwy. W., Wayne Township, 14000815

Susquehanna County

Dennis Farm, Address Restricted, Brooklyn Township, 14000816

Westmoreland County

Concord School, Loyalhanna Dam Rd., Loyalhanna Township, 14000817

SOUTH CAROLINA

Dillon County

Dillon Graded School and Dillon Public School, 405 W. Washington St., Dillon, 14000818

Spartanburg County

Arcadia Mill No. 1, 1875 Hayne St., Spartanburg, 14000819

TEXAS

Somervell County

Glen Rose Downtown Historic District, Around courthouse square bounded by Vernon, Walnut, Bernard, Elm & 100 blk., 201, 205 SW. Bernard Sts., Glen Rose, 14000820

Travis County

Hancock Golf Course, 811 E. 41st St., Austin, 14000821

WYOMING

Sweetwater County

Tolar Petroglyph Site, Address Restricted, Point of Rocks, 14000822

[FR Doc. 2014-21233 Filed 9-5-14; 8:45 am]

BILLING CODE 4312-51-P